DEPARTMENT OF COMMERCE

Minority Business Development Agency

[Docket No. 0612243002-7057-01]

Amendment to the Required Minimum Performance Ratings for Optional Third-Year Funding for the Miami/Ft. Lauderdale, Oklahoma City and Honolulu Minority Business Enterprise Centers

AGENCY: Minority Business Development Agency, Commerce.

ACTION: Notice.

SUMMARY: On August 17, 2004, the Minority Business Development Agency (MBDA) published a Federal Register notice soliciting competitive applications for operators of the Miami/Ft. Lauderdale, Oklahoma City and Honolulu Minority Business Enterprise Centers (MBECs) (formerly Minority Business Development Centers). No other MBECs were included as part of this competitive solicitation. The August 17, 2004 notice provides for a two-year award period, with an optional third-year award period available at the sole discretion of MBDA and the Department of Commerce. The notice also provides that only those MBECs achieving “outstanding” performance ratings for each of the two prior program years are eligible to receive funding for the optional third-year of the award.

This notice amends the August 17, 2004 notice to change the minimum required performance rating for the optional third-year award period from “outstanding” to “at least commendable” for the first program year. The “outstanding” performance requirement for the second program year continues to apply. MBDA is making this amendment to allow the operators of these three MBECs to be eligible for a third and final year of continuation funding if they achieve at least a “commendable” performance rating for first program year and an “outstanding” performance rating for the second program year.

DATES: The optional third-year award period, if approved by the Department of Commerce Grants Officer, will be effective as of January 1, 2007 and will continue through December 31, 2007.

FOR FURTHER INFORMATION CONTACT: Mr. Efrain Gonzalez, Program Manager, Minority Business Development Agency, Office of Business Development, 1401 Constitution Avenue, NW., Room 5075, Washington, DC 20230. Mr. Gonzalez may be reached by telephone at (202) 482-1940 and by e-mail at egonzalez@mbda.gov.

SUPPLEMENTARY INFORMATION: On August 17, 2004, MBDA published a Federal Register notice (69 FR 51064) soliciting competitive applications for operators of the Miami/Ft. Lauderdale, Oklahoma City and Honolulu MBECs, which cover the metropolitan statistical areas of Miami/Ft. Lauderdale, Florida, the State of Oklahoma and the Island of Hawaii, respectively. No other MBECs were included as part of this competitive solicitation. The August 17, 2004 notice provides for a two-year award period (January 1, 2005-December 31, 2006), with a third-year option (January 1, 2007-December 31, 2007) available at the sole discretion of MBDA and the Department of Commerce. The August 17, 2004 notice further provides that only those MBECs achieving “outstanding” performance ratings for each of the two prior program years are eligible to receive funding for the optional third-year of the award. Pursuant to the August 17, 2004 notice, two-year awards were made to M. Gill and Associates (Miami/Ft. Lauderdale MBEC), Langston University (Oklahoma City MBEC) and the University of Hawaii (Honolulu MBEC) for the award period January 1, 2005-December 31, 2006.

MBDA has determined that it is necessary to amend the August 17, 2004 notice to change the minimum required performance rating for optional third-year funding from “outstanding” to “at least commendable” (as defined in the FFO accompanying the original notice) for the first program year. All other provisions of the original August 17, 2004 notice remain the same.

Limitation of Liability

Publication of this announcement does not oblige the Department of Commerce or MBDA to award a third-year extension to any of the MBEC operators or projects identified in this notice or to obligate any available funds for such purpose.

Department of Commerce Pre-Award Notification Requirements for Grants and Cooperative Agreements

The Department of Commerce Pre-Award Notification Requirements for Grants and Cooperative Agreements contained in the December 30, 2004 Federal Register notice (69 FR 78389) are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: March 13, 2007.
Ronald Marin,
Financial Management Officer, Minority Business Development Agency.

[FR Doc. E7-4902 Filed 3-16-07; 8:45 am]

BILLING CODE 3510-21-P